DEPARTMENT OF TRANSPORTATION

Federal Aviation Administration

Eighth Meeting: FTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held November 28-30, 2006. On November 28th, the meeting will start at 11 a.m. and November 29-30, the meeting will start at 8 a.m.

ADDRESSES: The meeting will be held at RTCA, Inc., 1828 L Street, NW., Suite 805, Washington, DC 20036.

Note: Workgroup 1 and 3 will convene on Friday, December 1, 2006, from 8 a.m. to 12 p.m., or at the adjournment of the Plenary, whatever comes first. Workgroup 2 will convene on Friday, December 1, 2006, from 8 a.m. to 5 p.m. or at the adjournment of the Plenary, whatever comes first. Dress is Business Casual.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 203 meeting. The agenda will include:

• November 28:

• Opening Plenary Session (Welcome and Introductory Remarks, Approval of Seventh Plenary Summary).

• Review SC-203 Progress Since Seventh Plenary: Status from Workgroups 1, 2 and 3.

• Resolve Final Review and Comment (FRAC) comments on draft document Guidance Material and Considerations for Unmanned Aircrafts Systems, (GM) document.

• November 29:

• Continue resolution of FRAC comments on draft GM document.

• Plenary considers GM document for approval. If approved forward draft GM document to the RTCA Program Management Committee (PMC) for consideration.

• Closing Plenary Session (Action Item Review, Other Business, Date, Place and Time of Next Plenary, Adjourn).

Attendance is open to the interested public but limited to space availability. With the approval of the chairmen, members of the public may present oral statements at the meeting. Persons wishing to present statement or obtain information should contact the person listed in the FOR FURTHER INFORMATION CONTACT section. Members of the public may present a written statement to the committee at any time.

Dated: Issued in Washington, DC, on October 27, 2006.
Francisco Estrada C.,
RTCA Advisory Committee.

[FR Doc. 06-9072 Filed 11-3-06; 8:45 am]

BILLING CODE 4910-13-M